DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 25743-25746, dated May 2, 2013) is amended to reorganize the National Center for Immunization and Respiratory Diseases, Centers for Disease Control and Prevention.

Section C-B, Organization and Functions, is hereby amended as follows:

Delete in its entirety the titles and functional statements for the Influenza Division (CVGD) and insert the following:

Influenza Division (CVGD). The Influenza Division (ID) improves global control and prevention of seasonal and novel influenza and improves influenza pandemic preparedness and response. In collaboration with domestic and global partners, the ID: (1) builds surveillance and response capacity; (2) monitors and assesses influenza viruses and illness; (3) improves vaccines and other interventions; and (4) applies research to provide science-based enhancement of prevention and control policies and programs.

Office of the Director (CVGD1). (1) Provides vision, leadership and direction for the division; (2) fosters external partnerships and cross-cutting activities that support quality science and strong global partnerships; (3) provides leadership and guidance in policy formulation; (4) provides support for national and international capacity building programs; (5) provides technical expertise and leadership for national and international pandemic preparedness activities; and (6) provides technical expertise for communications, information technology, genomic sequencing, and reagent resources.

Virology, Surveillance and Diagnosis Branch (CVGDB). (1) Conducts comprehensive antigenic, phenotypic, genotypic, structural, and evolutionary characterization of human and animal influenza viruses; (2) performs genetic and antigenic pandemic risk assessment of novel influenza viruses; (3) develops and evaluates novel and seasonal candidate vaccine viruses; (4) provides expert guidance on influenza vaccine virus selection; (5) develops methods to detect and characterize influenza viruses; and (6) trains and supports laboratories that perform influenza testing.

Epidemiology and Prevention Branch (CVGDC). (1) Conducts surveillance and research activities to better understand the epidemiology of influenza; and (2) improves understanding of the effectiveness of influenza antiviral and vaccine programs.

Immunology and Pathogenesis Branch (CVGDE). (1) Increases knowledge and improves understanding of immunity and immune correlates of protection; (2) develops and improves vaccines; (3) determines virus and host factors that impact virulence and transmission of influenza viruses; (4) conducts immunologic and virologic pandemic risk assessment of novel influenza viruses; and (5) trains and supports laboratories that perform immunologic testing.

Dated: May 2, 2013.
Sherri A. Berger,
Chief Operating Officer, Centers for Disease Control and Prevention.

[FR Doc. 2013-11144 Filed 5-9-13; 8:45 am]

BILLING CODE 4160-18-M